DEPARTMENT OF ENERGY

Federal Energy Regulatory Commission

[Docket Nos. ER99-3491-007; ER00-2184-005 ; ER00-2185-005 ; EL05-124-002]

PPL Montana, LLC; PPL Colstrip I, LLC; PPL Colstrip II, LLC; Notice Establishing Comment Date

January 27, 2006.

In a notice issued by the Secretary of the Commission, on January 17, 2006, the deadline for comments responding to the October 31, 2005 compliance filing made by PPL Montana, LLC, PPL Colstrip I, LLC, and PPL Colstrip II, LLC (collectively, PPL Parties) was suspended, pending Commission action on a protest filed by the Montana Consumer Counsel (MCC). In its protest, MCC requested that the comment deadline be suspended, pending the Commission's ruling regarding the obligations of the PPL Parties to make a software program utilized by PPL Parties, in preparing its compliance filing, available to the MCC. MCC's protest also raised additional issues addressing the merits of PPL Parties' compliance filing.

On January 23, 2006, PPL Parties submitted an answer to MCC's protest. In the answer, PPL Parties state, among other things, that to expedite this proceeding, the PPL Parties will obtain, at their own expense, a license allowing MCC to use the software program for which it has sought access, i.e., the Statistical Analysis System (SAS) computer program, with the delivery of that license scheduled for January 24, 2006.

Accordingly, upon consideration of the arguments presented, a comment period of 30 days, ending February 23, 2006, is hereby established. All remaining issues raised by MCC in its protest may be renewed by MCC within the comment deadline established herein.

Magalie R. Salas,
Secretary.

[FR Doc. E6-1442 Filed 2-2-06; 8:45 am]

BILLING CODE 6717-01-P